NATIONAL AERONAUTICS AND SPACE ADMINISTRATION

[Notice (14-069)]

NASA Advisory Council; Science Committee; Meeting

AGENCY: National Aeronautics and Space Administration.

ACTION: Notice of Meeting.

SUMMARY: In accordance with the Federal Advisory Committee Act, Public Law 92-463, as amended, the National Aeronautics and Space Administration announces a meeting of the Science Committee of the NASA Advisory Council (NAC). This Committee reports to the NAC. The meeting will be held for the purpose of soliciting, from the science community and other persons, research and technical information relevant to program planning.

DATES: Monday, July 28, 2014, 9:30 a.m. to 5:00 p.m.; and Tuesday, July 29, 2014, 8:00 a.m. to 2:30 p.m.; Local Time.

ADDRESSES: NASA Langley Research Center, 5 Langley Boulevard, Building 2101, Room 105A and 105B, Hampton, VA 23681. NOTE: Meeting location on July 28 from 9:30 a.m. to 1:10 p.m. will be in Room 305.

FOR FURTHER INFORMATION CONTACT: Ms. Ann Delo, Administrative Officer for the Science Committee, NASA Headquarters, Washington, DC 20546, (202) 358-0750, or ann.b.delo@nasa.gov.

SUPPLEMENTARY INFORMATION: The meeting will be open to the public up to the capacity of the room. Any person interested in participating in the meeting by WebEx and telephone should contact Ms. Ann Delo at (202) 358-0750 for the web link, toll-free number and passcode. The agenda for the meeting includes the following topics:

• Subcommittee Reports.

• Program Status.

• Joint Session with the NAC Human Exploration and Operations Committee.

• Joint Session with the NAC Technology, Innovation and Engineering Committee.

Attendees will be requested to sign a register and to comply with NASA Langley Research Center (LaRC) security requirements, including the presentation of a valid picture ID before receiving access to NASA Langley Research Center. Foreign nationals attending this meeting will be required to provide a copy of their passport and visa in addition to providing the following information no less than 10 working days prior to the meeting: Full name; gender; date/place of birth; citizenship; visa/green card information (number, type, expiration date); passport information (number, country, telephone); employer/affiliation information (name of institution, address, country, telephone); title/position of attendee. To expedite admittance, attendees with U.S. citizenship and Permanent Residents (green card holders) can provide identifying information 3 working days in advance by contacting Ms. Cheryl Cleghorn at cheryl.w.cleghorn@nasa.gov or 757-864-2497. It is imperative that the meeting be held on this date to accommodate the scheduling priorities of the key participants.

Patricia D. Rausch,
Advisory Committee Management Officer, National Aeronautics and Space Administration.

[FR Doc. 2014-16013 Filed 7-8-14; 8:45 am]

BILLING CODE 7510-13-P